DEPARTMENT OF COMMERCE

National Oceanic and Atmospheric Administration

RIN 0648-XX22

Mid-Atlantic Fishery Management Council; Public Meetings

AGENCY: National Marine Fisheries Service (NMFS), National Oceanic and Atmospheric Administration (NOAA), Commerce.

ACTION: Notice of public meetings.

SUMMARY: The Mid-Atlantic Fishery Management Council's (Council) Scientific and Statistical Committee (SSC) and the Summer Flounder, Scup, Black Sea Bass and Bluefish Monitoring Committees will hold public meetings.

DATES: The SSC meeting will be held Wednesday and Thursday, July 28-29, 2010 and will begin at 9 a.m. on July 28 and at 8:30 a.m. on July 29. These meetings will conclude by 5 p.m. each day. The Summer Flounder, Scup, Black Sea Bass and Bluefish Monitoring Committees will be held on Friday July 30, 2010 from 8:30 a.m. to 5 p.m.

ADDRESSES: All meetings will be held at the Hilton Baltimore, 401 West Pratt Street, Baltimore, MD 21201; telephone: (410) 573-8700.

Council address: Mid-Atlantic Fishery Management Council, 800 North State Street, Suite 201, Dover, DE 19901; telephone: (302) 674-2331.

FOR FURTHER INFORMATION CONTACT: Daniel T. Furlong, Executive Director, Mid-Atlantic Fishery Management Council, 800 North State Street, Suite 201, Dover, DE 19901; telephone: (302) 674-2331, extension 255.

SUPPLEMENTARY INFORMATION: The agenda items for SSC meeting include: (1) review stock assessment information and specify overfishing level and acceptable biological (ABC) for summer flounder, scup, black sea bass and bluefish for 2011; (2) review and comment on proposed 2011 quota specifications and management measures for summer flounder, scup, black sea bass and bluefish for 2011; (3) review Management Strategy Evaluation study; (4) discuss potential role of Industry Advisors in determining of OFL and ABC, especially in data poor situations.

The topics to be discussed at the Summer Flounder, Scup, Black Sea Bass and Bluefish Monitoring Committees include 2011 annual quota recommendations and associated management measures for summer flounder, scup, black sea bass and bluefish.

Although non-emergency issues not contained in this agenda may come before these groups for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: June 29, 2010.
Tracey L. Thompson,
Acting Director, Office of Sustainable Fisheries, National Marine Fisheries Service.

[FR Doc. 2010-16158 Filed 7-1-10; 8:45 am]

BILLING CODE 3510-22-S